NUCLEAR REGULATORY COMMISSION

Meeting Concerning the Revision of the Oversight Program for Nuclear Fuel Cycle Facilities

AGENCY: Nuclear Regulatory Commission (NRC).

ACTION: Notice of public meeting.

SUMMARY: NRC will hold a public meeting at the Nuclear Fuel Services (NFS) facility in Erwin, TN, to provide the local public, facility employees, citizens' groups, and local officials with information about, and an opportunity to provide views on, how the NRC plans to revise and improve its oversight program for nuclear fuel cycle facilities. The oversight program applies to commercial nuclear fuel cycle facilities regulated under 10 CFR Parts 40, 70, and 76. The facilities currently include gaseous diffusion plants, highly enriched uranium fuel fabrication facilities (one of which is NFS), low-enriched uranium fuel fabrication facilities, and a uranium hexafluoride (UF6) production facility. These facilities possess large quantities of materials that are potentially hazardous (i.e., radioactive, toxic, and/or flammable) to the workers, public, and environment. Also, some of the facilities possess information and material important to national security.

The goal of this revision project is to have an oversight program that: (1) Provides earlier and more objective indications of facility performance in the areas of safety and national security, (2) increases stakeholder confidence in the NRC, and (3) increases regulatory effectiveness, efficiency, and realism. To this end, the NRC is striving to make the oversight program more risk-informed and performance-based. The oversight revision project is described in SECY-99-188, “Evaluation and Proposed Revision of the Nuclear Fuel Cycle Facility Safety Inspection Program,” and in SECY-00-0222, “Status of Nuclear Fuel Cycle Facility Oversight Program Revision.” SECY-99-188 and SECY-00-0222, as well as other background information, are available in the Public Document Room and on the NRC Web Page at http://www.nrc.gov.

Purpose of Meeting: To obtain stakeholder views for improving the NRC oversight program for ensuring fuel cycle licensees and certificate holders maintain protection of worker and public health and safety, protection of the environment, and safeguards for special nuclear material and classified matter in the interest of national security. The public meeting will focus on the revisions that are being made to the program, and on how interested parties can provide input to the change process.

Date and Location: Members of the public, industry, and other stakeholders are invited to attend and participate in the meeting, which is scheduled for 10:00 to 10:30 a.m. on Wednesday, April 18, 2001. The meeting will be held in the NFS Training Center in Erwin, TN.

FOR FURTHER INFORMATION, CONTACT: Patrick Castleman, Office of Nuclear Material Safety and Safeguards, U.S. Nuclear Regulatory Commission, Washington, DC 20555, telephone (301) 415-8118, e-mail pic@nrc.gov.

Dated at Rockville, Maryland this 6th day of April 2001.
For the Nuclear Regulatory Commission.
Patrick Castleman,
Project Manager, Inspection Section, Safety and Safeguards Support Branch, Division of Fuel Cycle Safety and Safeguards.

[FR Doc. 01-9473 Filed 4-16-01; 8:45 am]

BILLING CODE 7590-01-P